ENVIRONMENTAL PROTECTION AGENCY

[FRL-6897-7]

National Environmental Justice Advisory Council; Notification of Meeting and Public Comment Period(s) Open Meetings

Pursuant to the Federal Advisory Committee Act (FACA), Public Law 92-463, we now give notice that the National Environmental Justice Advisory Council (NEJAC), along with the various subcommittees, will meet on the dates and times described below. All times noted are Eastern Standard Time. All meetings are open to the public. Due to limited space, seating at the NEJAC meeting will be on a first-come basis. Documents that are the subject of NEJAC reviews are normally available from the originating EPA office and are not available from the NEJAC. The NEJAC and the subcommittee meetings will take place at the Hyatt Regency Crystal City Hotel, 2700 Jefferson Davis Highway, Arlington, Virginia 22202. The meeting dates are as follows: December 11, 2000 through December 14, 2000. This is the third in a series of focused policy issue meetings for the NEJAC. To help prepare for this specific focused policy issue meeting the following background information is provided:

Request

The Charter for the National Environmental Justice Advisory Council (NEJAC) states that NEJAC shall provide independent advice to the Administrator on areas relating to environmental justice including, among other things, “advice for improving how EPA and others participate, cooperate, and communicate within the Agency and between other Federal agencies, State, or local governments, Federally recognized Tribes, EJ leaders, interest groups, and the public.” The Agency, through the Office of Environmental Justice (OEJ), requests that the NEJAC convene a focused and issue-oriented public meeting in Arlington, VA to receive comments, discuss, and analyze a major public policy issue. The Agency, furthermore, requests that the NEJAC produce a comprehensive report on the differing views, interests, concerns, and perspectives expressed by the stakeholder participants on the issue, and provide advice and recommendations for the Agency's review and consideration.

Issue

What progress has the Federal government made towards integrating environmental justice into its policies, programs, and activities consistent with existing laws and Executive Order 12898?

Background

Developing integrated strategies plays a vital role for achieving environmental justice for all Federal agencies and is consistent with the missions of those agencies. Executive Order 12898, “Federal Actions to Address Environmental Justice in Minority Populations and Low-Income Populations,” represents an important first step towards realizing the goal of achieving environmental justice throughout the Federal government.

The Executive Order requires that each Federal agency shall, to the greatest extent practicable and permitted by law, make achieving environmental justice part of its mission by identifying and addressing, as appropriate, disproportionately high and adverse human health or environmental effects on minority and low-income populations. Specifically, the Executive Order directs Federal agencies to:

(1) Develop a strategic plan to integrate environmental justice into their activities;

(2) Conduct activities in a manner that ensures that they do not have the effect of excluding people and groups from public participation opportunities or the benefits of such activities;

(3) Include diverse segments of the population in studies involving human health and environmental hazards;

(4) Collect, maintain and analyze information on consumption patterns of populations who rely principally on fish and wildlife for subsistence;

(5) Enhance public participation opportunities and the accessibility of meetings and documents; and,

(6) Develop interagency model projects on environmental justice that evidence cooperation among Federal agencies.

Purpose

Much can be gained from an examination of the successes, failures and challenges encountered by Federal agencies in integrating environmental justice during the past 6½ years. While there have been significant accomplishments and important initiatives, attempts to integrate environmental justice also have encountered tremendous barriers and challenges. A thoughtful examination will prove invaluable for understanding how future strategies for integrating environmental justice can be made more effective.

NEJAC's examination of environmental justice implementation throughout the Federal government should be forward-looking. The analysis should identify lessons learned from implementation of the Executive Order and make recommendations for future efforts to address environmental justice. Since issues of environmental justice are often complex, multi-faceted and cross-cutting, they require new approaches on the part of the Federal government. Coordinated interagency strategies are critical, including the development of community-based interagency demonstration projects.

NEJAC will examine interagency environmental justice implementation in two basic areas: (1) Progress and lessons gained from individual agency implementation; and, (2) development of collaborative interagency strategies.

Meeting

Registration for the NEJAC meeting will begin on Monday, December 11, 2000 at 8 a.m. The full NEJAC will convene Monday, December 11, 2000, and Tuesday, December 12, 2000 from 9 a.m. to 5 p.m. Business will include a series of panels with expert testimony on the focused policy issue, a review of ongoing NEJAC activities and a discussion of new business items. A public comment period dedicated to the focused policy issue is scheduled for Monday evening, December 11, 2000, from 6:30 p.m. to 9:30 p.m. On Tuesday evening, December 12, 2000, a second public comment period for overall environmental justice issues is scheduled from 6:30 p.m. to 9:30 p.m. The following Subcommittees will meet on Wednesday, December 13, 2000, from 9 a.m. to 6 p.m.: Air and Water; Enforcement; Health and Research; Indigenous Peoples; International; and Waste and Facility Siting. The full NEJAC will reconvene Thursday, December 14, 2000, from 9 a.m. to 5 p.m. to wrap up all business requiring Executive Council action. All times shown are Eastern Time.

Any member of the public wishing additional information on the subcommittee meetings should contact the specific Designated Federal Official at the telephone number listed below.

Subcommittee | Federal Official and Telephone Number
Enforcement | Ms. Shirley Pate 202/564-2607
Health & Research | Ms. Brenda Washington 202/564-6781 Ms. Aretha Brockett 202/260-3810
International | Ms. Wendy Graham 202/564-6602
Indigenous Peoples | Mr. Danny Gogal 202/564-2576
Waste/Facility Siting | Mr. Kent Benjamin 202/260-2822
Air & Water | Mr. Wil Wilson 202/564-1954 Ms. Alice Walker 202/260-1919

Members of the public who wish to participate in one of the public comment periods should pre-register by December 1, 2000. Individuals or groups making oral presentations during the public comment period will be limited to a total time of five minutes. Only one representative from a community, organization, or group will be allowed to speak. Any number of written comments can be submitted for the record. The suggested format for individuals making public comment should be as follows:

Request To Make Public Comment Speaker's Template

NAME OF SPEAKER:

NAME OF ORGANIZATION/COMMUNITY:

ADDRESS/PHONE/FAX/EMAIL:

DESCRIPTION OF CONCERN:

RECOMMENDATIONS/DESIRED OUTCOME:

If you wish to submit written comments of any length (at least 50 copies), they should also be received by December 1, 2000. Comments received after that date will be provided to the Council as logistics allow. All information should be sent to the address or fax number cited below.

Registration

Pre-registration for all attendees is recommended. To receive a registration form, call the number listed below or visit the web site. Correspondence concerning registration should be sent to Ms. Victoria Robinson of Tetra Tech Environmental Management, Inc. at: 1881 Campus Commons, Suite 200, Reston, VA 20191, phone: 703/390-0641 or fax: 703/391-5876. Hearing-impaired individuals or non-English speaking attendees wishing to arrange for a sign language or foreign language interpreter, may make appropriate arrangements using these numbers also. In addition, NEJAC offers a toll-free Registration Hotline at 1-888/335-4299. For on-line registration, you may visit the Internet site: http://es.epa.gov/oeca/main/ej/nejac/index.html.

Dated: October 31, 2000.
Charles Lee,
Designated Federal Official, National Environmental Justice Advisory Council.

[FR Doc. 00-28420 Filed 11-3-00; 8:45 am]

BILLING CODE 6560-50-P